NATIONAL SCIENCE FOUNDATION

Assumption Buster Workshop: Trust Anchors Are Invulnerable

AGENCY: The National Coordination Office (NCO) for the Networking and Information Technology Research and Development (NITRD) Program.

ACTION: Call for participation.

SUMMARY: The NCO, on behalf of the Special Cyber Operations Research and Engineering (SCORE) Committee, an interagency working group that coordinates cyber security research activities in support of national security systems, is seeking expert participants in a day-long workshop on the pros and cons of the use and implementation of trust anchors. The workshop will be held April 27, 2011 in the Savage, MD area. Applications will be accepted until 5 p.m. EST March 18, 2011. Accepted participants will be notified by March 30, 2011.

DATES: Workshop: April 27, 2011; Deadline: March 18, 2011. Apply via e-mail to assumptionbusters@nitrd.gov. Travel expenses will be paid for selected participants who live more than 50 miles from Washington, DC, up to the limits established by Federal Government travel regulations and restrictions.

FOR FURTHER INFORMATION CONTACT: assumptionbusters@nitrd.gov.

SUPPLEMENTARY INFORMATION: Overview: This notice is issued by the National Coordination Office for the Networking and Information Technology Research and Development (NITRD) Program on behalf of the SCORE Committee.

Background: There is a strong and often repeated call for research to provide novel cyber security solutions. The rhetoric of this call is to elicit new solutions that are radically different from existing solutions. Continuing research that achieves only incremental improvements is a losing proposition. We are lagging behind and need technological leaps to get, and keep, ahead of adversaries who are themselves rapidly improving attack technology. To answer this call, we must examine the key assumptions that underlie current security architectures. Challenging those assumptions both opens up the possibilities for novel solutions that are rooted in a fundamentally different understanding of the problem and provides an even stronger basis for moving forward on those assumptions that are well-founded. The SCORE Committee is conducting a series of four workshops to begin the assumption buster process. The assumptions that underlie this series are that cyber space is an adversarial domain, that the adversary is tenacious, clever, and capable, and that re-examining cyber security solutions in the context of these assumptions will result in key insights that will lead to the novel solutions we desperately need. To ensure that our discussion has the requisite adversarial flavor, we are inviting researchers who develop solutions of the type under discussion, and researchers who exploit these solutions. The goal is to engage in robust debate of topics generally believed to be true to determine to what extent that claim is warranted. The adversarial nature of these debates is meant to ensure the threat environment is reflected in the discussion in order to elicit innovative research concepts that will have a greater chance of having a sustained positive impact on our cyber security posture.

The second topic to be explored in this series is “Trust Anchors are Invulnerable.” The workshop on this topic will be held in the Savage, MD area on April 27, 2011.

Assertion: “Trust anchors are invulnerable thus users who faithfully deploy reliable trust anchors can be confident that they are immune from the attacks.”

This assertion underlies significant cyber security research and development that is aimed at developing and implementing invulnerable trust anchors, security keystones that cannot be circumvented, and that assure that trust in a system is well grounded. Numerous trust anchors are proffered at different levels of assurance and for different aspects of the system. Platform trust is assured by the Trusted Platform Module. Trusted authentication is provided by tokens. The padlock on the browser assures we can trust web interactions since they are protected by SSL. Close-held keys and strong key management systems assure cryptographic trust.

At the workshop we will explore what assurances these trust anchors do and do not provide, what they depend upon, how they do or do not interact with the rest of the system, how they typically fail, and what needs to be addressed to enable effective use of them.

How To Apply

If you would like to participate in this workshop, please submit (1) a resume or curriculum vita of no more than two pages which highlights your expertise in this area and (2) a one-page paper stating your opinion of the assertion and outlining your key thoughts on the topic. The workshop will accommodate no more than 60 participants, so these brief documents need to make a compelling case for your participation. Applications should be submitted to assumptionbusters@nitrd.gov no later than 5 p.m. EST on March 18, 2011.

Selection and Notification: The SCORE committee will select an expert group that reflects a broad range of opinions on the assertion. Accepted participants will be notified by e-mail no later than March 30, 2011. We cannot guarantee that we will contact individuals who are not selected, though we will attempt to do so unless the volume of responses is overwhelming.

Submitted by the National Science Foundation for the National Coordination Office (NCO) for Networking and Information Technology Research and Development (NITRD) on February 22, 2011.

Suzanne H. Plimpton,
Reports Clearance Officer, National Science Foundation.

[FR Doc. 2011-4272 Filed 2-24-11; 8:45 am]

BILLING CODE 7555-01-P